DEPARTMENT OF JUSTICE

Notice of Lodging of Consent Decree Pursuant to the Resource Conservation and Recovery Act

On January 2, 2015, the Department of Justice lodged a proposed Consent Decree with the United States District Court for the Southern District of Georgia in the lawsuit entitled United States et al v. Renessenz, LLC, Civil Action No. 2:14-CV-185.

The United States of America (“United States”), on behalf of the Administrator of the United States Environmental Protection Agency (“EPA”), and the State of Georgia on behalf of the Environmental Protection Division of the Georgia Department of Natural Resources, (“State”) (collectively, “Plaintiffs), filed a complaint against Renessenz, LLC (“Defendant” or “Renessenz”) pursuant to the Solid Waste Disposal Act (“SWDA”), as amended by the Resource Conservation and Recovery Act (“RCRA”), 42 U.S.C. 6901 et seq. for failure to make a hazardous waste determination on wastewater collected at Defendant's facility and for operating a treatment, storage, or disposal facility without a permit.

Under the Consent Decree, the Defendant must permanently close various components of its wastewater treatment system in accordance with the Georgia Rules for Hazardous Waste Management, Chapter 391-3-11-.10 (Subpart G of 40 CFR part 264 and 40 CFR 264.197 and/or 40 CFR 264.228), as well as construct a new wastewater treatment system that is compliant with RCRA, the Georgia Hazardous Waste Management Act (“HWMA”), and those two statutes' implementing regulations. If the Defendant cannot demonstrate “clean closure,” or the removal of all wastes from the various components of the wastewater treatment system, the surrounding soils, and equipment, then the Defendant must apply for a permit to perform post-closure care, including corrective action, at the facility.

The publication of this notice opens a period for public comment on the Consent Decree. Comments should be addressed to the Assistant Attorney General, Environment and Natural Resources Division, and should refer to United States et al. v. Renessenz, LLC, D.J. Ref. 90-5-2-1-2132/5. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $11.00 (25 cents per page reproduction cost) payable to the United States Treasury.

Henry S. Friedman,
Assistant Section Chief, Environmental Enforcement Section, Environment and Natural Resources Division.

[FR Doc. 2015-00382 Filed 1-13-15; 8:45 am]

BILLING CODE 4410-15-P